COMMITTEE FOR PURCHASE FROM PEOPLE WHO ARE BLIND OR SEVERELY DISABLED

Procurement List; Additions and Deletions

AGENCY: Committee for Purchase From People Who Are Blind or Severely Disabled.

ACTION: Deletions from the procurement list.

SUMMARY: This action deletes product(s) and service(s) from the Procurement List that were furnished by nonprofit agencies employing persons who are blind or have other severe disabilities.

DATES: Date added to and deleted from the Procurement List: July 16, 2023.

ADDRESSES: Committee for Purchase From People Who Are Blind or Severely Disabled, 355 E Street SW, Suite 325, Washington, DC 20024.

FOR FURTHER INFORMATION CONTACT: Michael R. Jurkowski, Telephone: (703) 785-6404, or email CMTEFedReg@AbilityOne.gov.

SUPPLEMENTARY INFORMATION:

Deletions

On 2/10/2023 and 2/17/2023, the Committee for Purchase From People Who Are Blind or Severely Disabled published notice of proposed deletions from the Procurement List. This notice is published pursuant to 41 U.S.C. 8503(a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

6645-01-456-5008—Clock, Wall, Slimline, Bronze, Custom Logo, 9¼ Quartz

6645-01-456-6018—Clock, Wall, Slimline, Brown, Custom Logo, 12¾″ Quartz

6645-01-557-3149—Clock, Wall, Self-Set, Brown, 12″ Diameter

6645-01-557-8131—Clock, Wall, Self-Set, Custom Logo, Brown, 12″ Diameter

Designated Source of Supply: Chicago Lighthouse Industries, Chicago, IL

Contracting Activity: GSA/FAS ADMIN SVCS ACQUISITION BR 2, NEW YORK, NY

NSN(s)—Product Name(s):

MR 1080—Refill, Scrub Brush with Eraser, Utility, 2PK

Designated Source of Supply: Industries for the Blind and Visually Impaired, Inc., West Allis, WI

Contracting Activity: Military Resale-Defense Commissary Agency

NSN(s)—Product Name(s):

7520-01-645-9512—Pen, Stick, Plastic Fine Point, Water Resistant Permanent Blue Ink

7520-01-645-9513—Pen, Stick, Plastic Fine Point, Water Resistant Permanent Red Ink

7520-01-645-9514—Pen, Stick, Plastic Medium Point, Water Resistant Permanent Black Ink

7520-01-645-9515—Pen, Stick, Plastic Fine Point, Water Resistant Permanent Black Ink

7520-01-645-9516—Pen, Stick, Plastic Medium Point, Water Resistant Permanent Blue Ink

7520-01-645-9517—Pen, Stick, Plastic Medium Point, Water Resistant Permanent Red Ink

Designated Source of Supply: Winston-Salem Industries for the Blind, Inc, Winston-Salem, NC

Contracting Activity: GSA/FAS ADMIN SVCS ACQUISITION BR(2, NEW YORK, NY

Service(s)

Service Type: Sourcing, Cutting, Kitting and Fulfillment Service

Mandatory for: Federal Prison Industries, 400 1st Street NW, Washington, DC—ECWS, GEN III, Layer 6, Jacket

Designated Source of Supply: Blind Industries & Services of Maryland, Baltimore, MD

Contracting Activity: FEDERAL PRISON SYSTEM/BUREAU OF PRISONS, CO BUSINESS OFFICE

Michael R. Jurkowski,
Acting Director, Business Operations.

[FR Doc. 2023-12911 Filed 6-15-23; 8:45 am]

BILLING CODE 6353-01-P